ENVIRONMENTAL PROTECTION AGENCY

[FRL-7227-3]

Clean Water Act Section 303(d): Final Agency Action on 98 Total Maximum Daily Loads (TMDLs) and Final Agency Action on 20 Determinations That TMDLs Are Not Needed

AGENCY: Environmental Protection Agency (EPA).

ACTION: Notice of availability.

SUMMARY: This notice announces final agency action on 98 TMDLs prepared by EPA Region 6 for waters listed in Louisiana's Calcasieu and Ouachita river basins, under section 303(d) of the Clean Water Act (CWA). This notice also announces final agency action removing 20 waterbody/pollutant combinations from the Louisiana 303(d) list because TMDLs are not needed. The EPA evaluated these waters and prepared the 98 TMDLs needed in response to a consent decree entered in the lawsuit Sierra Club, et al. v. Clifford et al., No. 96-0527, (E.D. La.). Documents from the administrative record files for the 20 determinations that TMDLs are not needed and for the 98 TMDLs, including TMDL calculations and the responses to comments, may be viewed at www.epa.gov/region6/water/tmdl.htm.

EPA believes that the public notice and comment period provided for these TMDLs was adequate. During the comment period, EPA received over 400 pages of comments from numerous commenters, including the parties requesting more time. EPA believes that it has appropriately responded to the comments received. Furthermore, EPA is establishing these TMDLs pursuant to deadlines established in a consent decree in the case styled Sierra Club, et al. v. Clifford et al., No. 96-0527, (E.D. La.) which does not at this late date permit EPA to grant additional time for public comment, absent relief from the court, which the Agency does not believe is necessary to seek here. However, EPA will continue to accept information submitted regarding potential errors in the TMDL, and/or to meet with parties to discuss potential errors. If the Agency determines that errors were made, it will issue a correction notice or revise the TMDL, as appropriate.

The administrative record files may be obtained by calling or writing Ms. Caldwell at the above address. Please contact Ms. Caldwell to schedule an inspection.

FOR FURTHER INFORMATION CONTACT: Ellen Caldwell at (214) 665-7513.

SUPPLEMENTARY INFORMATION: In 1996, two Louisiana environmental groups, the Sierra Club and Louisiana Environmental Action Network (plaintiffs), filed a lawsuit in Federal Court against the EPA, styled Sierra Club, et al. v. Clifford et al., No. 96-0527, (E.D. La.). Among other claims, the plaintiffs alleged that the EPA failed to establish Louisiana TMDLs in a timely manner.

EPA Takes Final Agency Action on 98 TMDLs

By this notice EPA is taking final agency action on the following 98 TMDLs for waters located within the Calcasieu and Ouachita river basins:

Subsegment | Waterbody name | Pollutant
030301 | Calcasieu River & Ship Channel—Saltwater Barrier to Moss Lake (Estuarine) (Includes Coon Island and Clooney Island Loops) | Contaminated sediments (Mercury, PAHs, and toxicity).
030306 | Bayou Verdine (Estuarine) | Contaminated sediments (4,4'-DDT, Methoxychlor, PAHs, Zinc, Calcium, and toxicity).
030901 | Bayou D'Inde—Headwaters to Calcasieu River (Estuarine) | Contaminated sediments (Mercury, toxicity, and organics).
030305 | Contraband Bayou (Estuarine) | Copper.
031201 | Calcasieu River Basin—Coastal Bays and Gulf Waters to State 3 mile limit | Mercury.
030301 | Calcasieu River and Ship Channel—Saltwater Barrier to Moss Lake (Estuarine) (Includes Coon Island and Clooney Island Loops) | Metals (Copper, Lead, and Mercury).
030304 | Moss Lake (Estuarine) | Metals (Copper, Mercury).
030306 | Bayou Verdine (Estuarine) | Metals (Mercury, Nickel).
030901 | Bayou D'Inde—Headwaters to Calcasieu River (Estuarine) | Metals (Copper, Nickel, and Mercury).
030305 | Contraband Bayou (Estuarine) | Pathogen indicators.
030701 | Bayou Serpent | Pesticides (Fipronil).
030301 | Calcasieu River and Ship Channel—Saltwater Barrier to Moss Lake (Estuarine) (Includes Coon Island and Clooney Island Loops) | Priority organics (PAHs).
030306 | Bayou Verdine (Estuarine) | Priority organics (Phenols, and 1,2-Dichloroethane).
030901 | Bayou D'Inde—Headwaters to Calcasieu River (Estuarine) | Priority organics (PCBs, Tetrachloroethane, Hexachlorobenzene, Hexachlorobutadiene, and Bromoform).
030702 | English Bayou—Headwaters to Calcasieu River | Suspended solids.
030702 | English Bayou—Headwaters to Calcasieu River | Turbidity.
081501 | Castor Creek—Headwaters to Little River | Chlorides.
0809(04) | Little Bayou Boeuf/Wham Brake (within segment 0809) | Dioxins.
080912 | Tisdale Brake/Staulkinghead Creek from origin to Little Bayou Boeuf | Dioxins.
080101 | Ouachita River—Arkansas State Line to Columbia Lock and Dam (Scenic from the Arkansas State Line to intersection with Bayou Bartholomew—22 miles) | Mercury.
080902 | Bayou Bonne Idee—Headwaters to Boeuf River | Nitrogen.
080102 | Bayou Chauvin | Noxious aquatic plants.
080201 | Ouachita River—Columbia Lock and Dam to Jonesville | Nutrients.
080302 | Black River—Corps of Engineers Control Structure to Red River | Nutrients.
080902 | Bayou Bonne Idee—Headwaters to Boeuf River | Nutrients.
080904 | Bayou Lafourche—near Oakridge to Boeuf River near Columbia | Nutrients.
080910 | Clear Lake | Nutrients.
081002 | Joe's Bayou—Headwaters to Bayou Macon | Nutrients.
081201 | Tensas River—Headwaters to Jonesville (including Tensas Bayou) | Nutrients.
081202 | Lake St. Joseph (Oxbow Lake) | Nutrients.
080201 | Ouachita River—Columbia Lock | Organic enrichment/low DO.
080501 | Bayou de L'Outre—Arkansas State to Ouachita River (Scenic) | Organic enrichment/low DO.
080607 | Corney Bayou—from Arkansas State Line to Corney Lake (Scenic) | Organic enrichment/low DO.
080902 | Bayou Bonne Idee—Headwaters to Boeuf River | Organic enrichment/low DO.
080904 | Bayou Lafourche—near Oakridge to Boeuf River near Columbia | Organic enrichment/low DO.
080910 | Clear Lake | Organic enrichment/low DO.
081002 | Joe's Bayou—Headwaters to Bayou Macon | Organic enrichment/low DO.
081201 | Tensas River—Headwaters to Jonesville (including Tensas Bayou) | Organic enrichment/low DO.
081202 | Lake St. Joseph (Oxbow Lake) | Organic enrichment/low DO.
080102 | Bayou Chauvin—Headwaters to Ouachita River | Pathogen indicators.
080610 | Middle Fork of Bayou D'Arbonne—From origin to Bayou D'Arbonne Lake (Scenic) | Pathogen indicators.
080905 | Turkey Creek—Headwaters to Turkey Creek Cutoff and Turkey Creek Cutoff to Big Creek including Glade Slough | Pathogen indicators.
080910 | Clear Lake | Pathogen indicators.
081001 | Bayou Macon | Pathogen indicators.
081602 | Little River—From Bear Creek to Catahoula Lake (Scenic) | Pathogen indicators.
080901 | Boeuf River—Arkansas State Line to Ouachita River | Pesticides (Carbofuran, DDT, and Toxaphene).
080903 | Big Creek—Headwaters to Boeuf | Pesticides (Carbofuran, Atrazine, DDT, and Methyl Parathion).
081001 | Bayou Macon | Pesticides (DDT).
081002 | Joe's Bayou—Headwaters to Bayou Macon | Pesticides (Carbofuran, and DDT).
081201 | Tensas River—Headwaters to Jonesville including Tensas Bayou | Pesticides (Carbofuran, Toxaphene, and DDT).
080902 | Bayou Bonne Idee—Headwaters to Boeuf River | Phosphorus.
080904 | Bayou Lafourche—near Oakridge to Boeuf River near Columbia | Priority organics (Dioxins).
081501 | Castor Creek—Headwaters to Little River | Salinity/TDS.
080202 | Bayou Louis | Siltation.
080901 | Boeuf River—Arkansas State Line to Ouachita River | Siltation.
080102 | Bayou Chauvin | Suspended solids.
080901 | Boeuf River—Arkansas State Line to Ouachita River | Suspended solids.
080903 | Big Creek—Headwaters to Boeuf River (including Big Colewa Bayou) | Suspended solids.
080904 | Bayou Lafourche—near Oakridge to Boeuf River near Columbia | Suspended solids.
080910 | Clear Lake | Suspended solids.
081001 | Bayou Macon—Arkansas State Line to Tensas River | Suspended solids.
081002 | Joe's Bayou—Headwaters to Bayou Macon | Suspended solids.
081201 | Tensas River—Headwaters to Jonesville (including Tensas Bayou) | Suspended solids.
081202 | Lake St. Joseph (Oxbow Lake) | Suspended solids.
080102 | Bayou Chauvin | Turbidity.
080901 | Boeuf River—Arkansas State Line to Ouachita River | Turbidity.
080903 | Big Creek—Headwaters to Boeuf River (including Big Colewa Bayou) | Turbidity.
080904 | Bayou Lafourche—near Oakridge to Boeuf River near Columbia | Turbidity.
081001 | Bayou Macon—Arkansas State Line to Tensas River | Turbidity.
081201 | Tensas River—Headwaters to Jonesville (including Tensas Bayou) | Turbidity.

EPA requested the public to provide EPA with any significant data or information that may impact the 98 TMDLs in 67 FR 15196 (March 29, 2002). The comments received and EPA's response to comments may be found at www.epa.gov/region6/water/tmdl.htm.

Final Agency Action Removing 20 Waterbody/Pollutant Combinations for Waters Located Within the Calcasieu and Ouachita Basins From the Louisiana 303(d) List Because TMDLs Are Not Needed

Subsegment | Waterbody name | Pollutant
030301 | Calcasieu River and Ship Channel—Saltwater Barrier to Moss Lake (Estuarine) (includes Coon Island and Clooney Island Loops) | Ammonia.
030302 | Lake Charles (Estuarine) | Non-priority organics.
030306 | Bayou Verdine | Non-priority organics.
030901 | Bayou D'Inde—Headwaters to Calcasieu River (Estuarine) | Non-priority organics.
030901 | Bayou D'Inde—Headwaters to Calcasieu River (Estuarine) | Other inorganics.
030302 | Lake Charles (Estuarine) | Priority organics.
030303 | Prien Lake | Priority organics.
030304 | Moss Lake (Estuarine) | Priority organics.
030305 | Contraband Bayou (Estuarine) | Priority organics.
030401 | Calcasieu River—Calcasieu Ship Channel Below Moss Lake to the Gulf of Mexico (Estuarine) (Includes Monkey Island Loop) | Priority organics.
030402 | Calcasieu Lake (Estuarine) | Priority organics.
080102 | Bayou Chauvin—Headwaters to the Ouachita River | Ammonia.
080901 | Boeuf River—Arkansas State Line to Ouachita River | Ammonia.
080905 | Turkey Creek—Headwaters to Turkey Creek Cutoff and Turkey Creek Cutoff to Big Creek including Glade Slough | Ammonia.
081401 | Dugdemona River—Headwaters to junction with Big Creek | Dioxins.
081001 | Bayou Macon—Arkansas State Line to Tensas River | Nutrients.
081402 | Dugdemona River—From Big Creek to Little River | Organic enrichment/low DO.
081609 | Hemphill Creek—Headwaters to Catahoula Lake (includes Hair Creek) | Organic enrichment/low DO.
080901 | Boeuf River—Arkansas State Line to Ouachita River | Phosphorus.
080903 | Big Creek—Headwaters to Boeuf River (including Big Colewa Bayou) | Phosphorus.

EPA requested the public to provide to EPA any significant data or information that may impact the determinations that 20 TMDLs are not needed in 67 FR 15196 (March 29, 2002). The comments received and EPA's response to comments may be found at www.epa.gov/region6/water/tmdl.htm.

Dated: May 31, 2002.
Oscar Ramirez, Jr.,
Acting Director, Water Quality Protection Division, Region 6.

[FR Doc. 02-14498 Filed 6-12-02; 8:45 am]

BILLING CODE 6560-50-P